DEPARTMENT OF JUSTICE

Notice of Lodging Proposed Consent Decree

In accordance with Departmental Policy, 28 CFR 50.7, notice is hereby given that a proposed Consent Decree in United States v. Polo Development, Inc., et al., Civil Action No. 4:20-cv-2400-JRA, was lodged with the United States District Court for the Northern District of Ohio on March 1, 2022.

This proposed Consent Decree concerns an amended complaint filed by the United States against Defendants Polo Development, Inc., AIM Georgia, LLC, Joseph Zdrilich, Donna Zdrilich, and Carbon Hills, LLC, pursuant to Section 309(b) of the Clean Water Act, 33 U.S.C. 1319(b), to obtain injunctive relief from and impose civil penalties against the Defendants for violating Section 301(a) of the Clean Water Act, 33 U.S.C. 1311(a), by discharging pollutants without a permit into waters of the United States. The proposed Consent Decree resolves these claims by requiring the Defendants to restore impacted areas, record a conservation easement, and pay a civil penalty.

The Department of Justice will accept written comments relating to this proposed Consent Decree for thirty (30) days from the date of publication of this Notice. Please address comments to Patrick R. Jacobi, United States Department of Justice, Environment and Natural Resources Division, Environmental Defense Section, Denver Place Building, 999 18th Street, Suite 370—South Terrace, Denver, CO 80202, pubcomment_eds.enrd@usdoj.gov, and refer to United States v. Polo Development, Inc., et al., DJ #'s 90-5-1-1-21099, 90-5-1-1-22034.

Subject to public health protocols, the proposed Consent Decree may be examined at the Clerk's Office, United States District Court for the Northern District of Ohio, 2 South Main Street, Akron, Ohio 44308. In addition, the proposed Consent Decree may be examined electronically at http://www.justice.gov/enrd/consent-decrees.

Cherie Rogers,
Assistant Section Chief, Environmental Defense Section, Environment and Natural Resources Division.

[FR Doc. 2022-04850 Filed 3-7-22; 8:45 am]

BILLING CODE P